SECURITIES AND EXCHANGE COMMISSION

[Release No. 34-76658; File No. SR-BX-2015-071]

Self-Regulatory Organizations; NASDAQ OMX BX, Inc.; Notice of Withdrawal of Proposed Rule Change To Amend the Fees Schedule

December 15, 2015.

On November 12, 2015, the NASDAQ OMX BX, Inc. (“Exchange”) filed with the Securities and Exchange Commission (“Commission”), pursuant to section 19(b)(1) of the Securities Exchange Act of 1934¹ and Rule 19b-4 thereunder,² a proposed rule change to amend the Exchange's fees schedule. The proposed rule change was published for comment in the Federal Register on December 1, 2015.³ The Commission received no comment letters on the proposal. On December 11, 2015, the Exchange withdrew the proposed rule change (SR-BX-2015-071).

¹ 15 U.S.C. 78s(b)(1).

² 17 CFR 240.19b-4.

³ See Securities Exchange Act Release No. 76520 (November 24, 2015), 80 FR 75157.

For the Commission, by the Division of Trading and Markets, pursuant to delegated authority.⁴
⁴ 17 CFR 200.30-3(a)(12).
Robert W. Errett,
Deputy Secretary.

[FR Doc. 2015-31929 Filed 12-18-15; 8:45 am]

BILLING CODE 8011-01-P